DEPARTMENT OF THE INTERIOR

Bureau of Land Management

[WO-320-1320-PB-02-24-1A; OMB Approval Number 1004-0073]

Information Collection Submitted to the Office of Management and Budget for Review Under the Paperwork Reduction Act

The Bureau of Land Management (BLM) has submitted the proposed collection of information listed below to the Office of Management and Budget (OMB) for approval under the provisions of the Paperwork Reduction Act (44 U.S.C. 3501 et seq.) On August 3, 2000, BLM published a notice in the Federal Register (65 FR 47797) requesting comment on this proposed collection. The comment period ended on October 2, 2000. BLM received no comments from the public in response to that notice. Copies of the proposed collection of information and related forms and explanatory material may be obtained by contacting the BLM Information Clearance Officer at the telephone number listed below.

OMB is required to respond to this request within 60 days but may respond after 30 days. For maximum consideration your comments and suggestions on the requirement should be made within 30 days directly to the Office of Management and Budget, Interior Department Desk Officer (1004-0073), Office of Information and Regulatory Affairs, Washington, DC 20503. Please provide a copy of your comments to the Bureau Information Collection Clearance Officer (WO-630), 1849 C St., NW., Mail Stop 401 LS, Washington, DC 20240.

Nature of Comments: We specifically request your comments on the following:

1. Whether the collection of information is necessary for the proper functioning of the Bureau of Land Management, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical, or other forms of information technology.

Title: Coal Management (43 CFR Group 3400). OMB approval number: 1004-0073.

Abstract: The Bureau of Land Management is proposing to renew the approval of an information collection for an existing rule at 43 CFR Group 3400. That rule provides for leasing of federal coal reserves and management of federal coal leases.

Bureau Form Number: 3400-12 and 3440-1. Other information is collected without a specific form.

Frequency: Frequency of responses is dependent upon the respondents need for benefits and the actions the respondents have taken on their leases. Some information is collected occasionally while others are reported monthly.

Description of Respondents: Respondents are individuals and corporations who are seeking authorization to develop, for who already have authorization to develop, coal reserves which are owned by the United States of America. BLM uses the information collected to administer the Federal Coal Management Program and to assure the respondent, the lessee and permitee, is in compliance with the requirements of the Mineral Leasing Act of 1920, as amended. Estimated average completion time for one response: 20.2 hours.

Annual Responses: 1,185.

Filing Fee per Response: There are 75 of the 1,185 projected responses that have filing fees associated with them. There are 30 actions with a filing fee of $250, 43 action with a filing fee of $50, and 2 actions with a filing fee of $10. The average filing fee is approximately $129.

Annual Burden Hours: 23,986 hours.

Bureau Clearance Officer: Michael Schwartz, 202-452-5033.

Dated: October 17, 2000.
Michael Schwartz,
BLM Information Collection Clearance Officer.

[FR Doc. 00-27281 Filed 10-23-00; 8:45 am]

BILLING CODE 4310-84-M